DEPARTMENT OF ENERGY

Federal Energy Regulatory Commission

[Docket No. RP03-221-000]

High Island Offshore System, L.L.C.; Notice of Proposed Changes in FERC Gas Tariff

January 8, 2003.

Take notice that on December 31, 2002, High Island Offshore System, L.L.C. (HIOS) tendered for filing as part of its FERC Gas Tariff, Third Revised Volume No. 1, the tariff sheets listed in Appendix A to the filing, to become effective February 1, 2003.

HIOS states that the proposed rate changes result in a decrease in total system revenues from jurisdictional service by approximately $ .5 million annually, based on the 12-month base period ending September 30, 2002, as adjusted for known and measurable changes through the nine month test period ending June 30, 2003.

HIOS states the rate change is necessary to compensate HIOS for its operating costs and allows HIOS to recover a reasonable depreciation expense, an increase in negative salvage expenses and a management fee.

HIOS states that a full copy of its filing is being served on all jurisdictional customers, applicable state commissions and interested parties that have requested service.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: January 13, 2003.

Magalie R. Salas,
Secretary.

[FR Doc. 03-746 Filed 1-13-03; 8:45 am]

BILLING CODE 6717-01-P